DEPARTMENT OF ENERGY

Federal Energy Regulatory Commission

[Project No. 4253-002]

River Street Associates; Contoocook Hydro, LLC; Notice of Transfer of Exemption

1. By letter filed November 23, 2016, Contoocook Hydro, LLC informed the Commission that the exemption from licensing for the River Street Project No. 4253, originally issued May 4, 1982 ¹ has been transferred to Contoocook Hydro, LLC. The project is located on the Nubanusit River in Hillsborough County, New Hampshire. The transfer of an exemption does not require Commission approval.

¹ 19 FERC 62,193, Order Granting Exemption from Licensing of a Small Hydroelectric Project of 5Megawatts or Less (1982).

2. Contoocook Hydro, LLC is now the exemptee of the River Street Project No. 4253. All correspondence should be forwarded to: Ms. Lori Barg, President, Contoocook Hydro, LLC, 581 Quaker Street, Henniker, NH 03242, Phone: 802-454-8458, Email: Lori@communityhydro.biz.

Dated: December 2, 2016.
Kimberly D. Bose,
Secretary.

[FR Doc. 2016-29622 Filed 12-9-16; 8:45 am]

BILLING CODE 6717-01-P